DEPARTMENT OF LABOR

Employment and Training Administration

[TA-W-51,269]

Hamilton Beach/Proctor-Silex, Inc.; a Subsidiary of NACCO Industries, Inc., Southern Pines, NC; Notice of Termination of Investigation

Pursuant to section 221 of the Trade Act of 1974, as amended, an investigation was initiated on March 21, 2003, in response to a petition filed by a company official on behalf of workers at Hamilton Beach/Proctor-Silex, Inc., a Subsidiary of Nacco Industries, Inc., Southern Pines, North Carolina.

The petitioner has requested that the petition be withdrawn. Consequently, further investigation would serve no purpose and the investigation under this petition has been terminated.

Signed at Washington, DC, this 12th day of May, 2003.
Linda G. Poole,
Certifying Officer, Division of Trade Adjustment Assistance.

[FR Doc. 03-13404 Filed 5-28-03; 8:45 am]

BILLING CODE 4510-30-P